DEPARTMENT OF THE INTERIOR

Bureau of Land Management

[ID-087-1610-DO-034D]

Notice of Intent To Prepare a Resource Management Plan and Associated Environmental Impact Statement for the Cottonwood Field Office

AGENCY: Bureau of Land Management, Interior.

ACTION: Notice of intent.

SUMMARY: This document provides notice that the Bureau of Land Management (BLM) intends to prepare an RMP with an associated EIS for the Cottonwood Field Office. The planning area for the RMP, which includes 140,143 acres of BLM-administered public lands, is located in Adams, Clearwater, Idaho, Latah, Lewis, and Nez Perce Counties, Idaho. Preparation of this RMP and EIS will conform to the Federal Land Policy and Management Act (FLPMA), the National Environmental Policy Act (NEPA), Federal regulations, and BLM management policies.

DATES: This notice initiates the public scoping process. Comments on the scope of the plan, including issues or concerns that should be considered, should be submitted in writing to the address listed below by November 15, 2004. However, collaboration with the public will continue throughout the planning process. Dates and locations for public meetings will be announced through local news media, newsletters, and the BLM Web site (http://www.id.blm.gov/planning/ctnwdrmp/index.htm), at least 15 days prior to the event.

ADDRESSES: Please mail written comments to the BLM, Cottonwood Field Office. ATTN: RMP, House 1, Butte Drive Route 3, Box 181, Cottonwood, ID 83522-9498, or fax to (208) 962-3275. All public comments, including names and mailing addresses of respondents, will be available for public review at the Cottonwood Field Office during regular business hours (7:45 a.m. to 4:30 p.m.) Monday through Friday, except holidays, and may be published as part of the EIS. Individual respondents may request confidentiality. If you wish to withhold your name or street address from public review or from disclosure under the Freedom of Information Act, please state this prominently at the beginning of your written correspondence. The BLM will honor such requests to the extent allowed by law. All submissions from organizations and businesses, and from individuals identifying themselves as representatives or officials of organizations or businesses, will be available for public inspection in their entirety.

FOR FURTHER INFORMATION CONTACT: For further information or to have your name added to the Cottonwood RMP Mailing List, contact Carrie Christman at the Cottonwood Field Office (see address above), telephone (208) 962-3245.

SUPPLEMENTARY INFORMATION: The Cottonwood RMP planning area is located in the southern part of the Idaho panhandle. The area is bordered to the west by the Oregon and Washington state lines, to the north by Benewah and Shoshone Counties, to the east by the Montana state line, and to the south by Lemhi and Valley Counties and the southern portion of Adams County. The Cottonwood Field Office planning area lies entirely within the ceded territory of the Nez Perce Tribe. The Nez Perce Reservation lies entirely within the planning area, and there are about 17,586 acres of BLM administered land within the reservation boundary. Management of BLM administered lands will involve trust and treaty resources.

The BLM-administered public lands within the Cottonwood Field Office planning area are currently managed in accordance with the decisions in the 1981 Chief Joseph Management Framework Plan (MFP) as amended. BLM will continue to manage these lands in accordance with the MFP and amendments until the RMP is completed and a Record of Decision is signed.

Preparation of an RMP for the Cottonwood Field Office is necessary to respond to changing resource conditions; respond to new issues; and provide a comprehensive framework for managing public lands administered by the field office. The RMP will establish new land use planning decisions to address issues identified through public scoping and, where appropriate, will incorporate decisions from the existing Chief Joseph MFP.

Public Participation: The BLM will work collaboratively with interested parties to identify the management decisions that are best suited to local, regional, and national interests. The public scoping process will hold identify planning issues and provide for public comment on the proposed planning criteria.

BLM has identified the following preliminary issue themes:

1. Vegetation management (including noxious weeds, riparian areas and Wetlands, and fuels and forest management).

2. Fire management.

3. Management of habitat for wildlife and special status species.

4. Management of transportation, public access, and recreational opportunities.

5. Land tenure adjustments.

6. Availability and management of public lands for commercial uses (minerals, forest products and livestock grazing).

7. Management of areas with special values.

8. Tribal treaty rights and trust responsibilities.

These preliminary issue themes are not final and may be refined or added to through future public participation.

BLM has also identified some preliminary planning criteria to guide development of the plan, to avoid unnecessary data collection and analysis, and to ensure the plan is tailored to the issues. These criteria may be modified or other criteria identified during the public scoping process. The public is invited to comment on the following preliminary planning criteria.

1. The plan will comply with all applicable laws, regulations, and current policies. This includes local, State, tribal, and Federal air quality standards; as well as water quality standards from the Idaho Non-Point Source Management Program Plans.

2. The RMP planning effort will be collaborative and multi-jurisdictional in nature. The BLM will strive to ensure that its management decisions are complementary to other planning jurisdictions and adjoining properties, within the boundaries described by law and Federal regulations.

3. All previously established Wilderness Study Areas will continue to be managed for wilderness values and character until Congress designates them as wilderness areas, or releases them for multiple use management.

4. The RMP will recognize all valid existing rights.

5. As part of this RMP process, BLM will analyze areas for potential designation as Areas of Critical Environmental Concern (ACEC) in accordance with 43 CFR 1610.7-2 and river corridors for suitability for designation under the Wild and Scenic Rivers Act.

July 6, 2004.
K. Lynn Bennett,
Idaho State Director, Bureau of Land Management.

[FR Doc. 04-19607 Filed 9-2-04; 8:45 am]

BILLING CODE 4310-GG-P